HEALTH AND HUMAN SERVICES

Food and Drug Administration

21 CFR Part 172

Food Additives Permitted for Direct Addition to Food for Human Consumption

CFR Correction

In Title 21 of the Code of Federal Regulations, parts 170 to 199, revised as of April 1, 2002, on page 63, § 172.615(a) is corrected in the table by removing the first entry for “Pentaerythritol ester of gum or wood rosin” and adding the following entry in its place:

§ 172.615 Chewing gum base.

* * * * *

(a) * * *

Plasticizing Materials (Softeners)
* * * * * * *
Pentaerythritol ester of partially hydrogenated gum or wood rosin | Having an acid number of 7-18, a minimum drop-softening point of 102 °C, and a color of K or paler.
* * * * * * *

[FR Doc. 03-55510 Filed 4-8-03; 8:45 am]

BILLING CODE 1505-01-D